DEPARTMENT OF HOUSING AND URBAN DEVELOPMENT

[Docket No. FR-5336-N-02]

Meeting of the Manufactured Housing Consensus Committee

AGENCY: Office of the Assistant Secretary for Housing—Federal Housing Commissioner, HUD.

ACTION: Notice of upcoming meeting.

SUMMARY: This notice sets forth the schedule and proposed agenda of an upcoming meeting of the Manufactured Housing Consensus Committee (the Committee). The meeting is open to the public and the site is accessible to individuals with disabilities.

DATES: Meetings will be held on Tuesday, July 28, 2009, 8 a.m. to 5 p.m., Wednesday, July 29, 2009, 8 a.m. to 5 p.m., and Thursday, July 30, 2008, 8 a.m. to 11 a.m. eastern standard time.

ADDRESSES: These meetings will be held at the Holiday Inn Arlington at Ballston, 4610 North Fairfax Drive, Arlington, Virginia 22203, telephone (703) 243-9800.

FOR FURTHER INFORMATION CONTACT: William W. Matchneer III, Associate Deputy Assistant Secretary for Regulatory Affairs and Manufactured Housing, Office of Manufactured Housing Programs, Department of Housing and Urban Development, 451 7th Street, SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App. 2) and 41 CFR 102-3.150. The Manufactured Housing Consensus Committee was established under section 604(a)(3) of the National Manufactured Housing Construction and Safety Standards Act of 1974, as amended by the Manufactured Housing Improvement Act of 2000, 42 U.S.C. 5403(a)(3). The Consensus Committee is charged with providing recommendations to the Secretary to adopt, revise, and interpret manufactured housing construction and safety standards, procedural and enforcement regulations, installation standards, installation regulations, and dispute resolution regulations.

Tentative Agenda

A. Welcome and Introductions.

B. Full Committee Meeting.

C. MHCC Charter and Bylaws.

D. Primary Inspection Agency Proposed Rule.

E. Reference Standards—3rd Set of Standards Updates.

F. Public Testimony.

G. Reports and Actions on Committee Work.

H. Adjourn.

Dated: June 18, 2009.
Brian D. Montgomery,
Assistant Secretary for Housing—Federal Housing Commissioner.

[FR Doc. E9-15174 Filed 6-25-09; 8:45 am]

BILLING CODE 4210-67-P